DEPARTMENT OF COMMERCE

Foreign-Trade Zones Board

[Docket 55-2000]

Proposed Foreign-Trade Zone—Edinburg, Texas; Application and Public Hearing

An application has been submitted to the Foreign-Trade Zones (FTZ) Board (the Board) by the City of Edinburg, Texas, to establish a general-purpose foreign-trade zone in Edinburg, Texas, adjacent to the Hidalgo/Pharr Customs port of entry. The application was submitted pursuant to the provisions of the FTZ Act, as amended (19 U.S.C. 81a-81u), and the regulations of the Board (15 CFR part 400). It was formally filed on September 22, 2000. The applicant is authorized to make the proposal under Senate Bill 691 of the 70th Legislature of the State of Texas (Regular Session, 1987), codified as Tex Rev. Civ. Stat. Ann. Art. 1446.01.

The proposed zone would be the second general-purpose zone in the Hidalgo/Pharr Customs port of entry area. The existing zone is FTZ 12 in McAllen, Texas (Grantee: McAllen Economic Development Corporation, Board Order 84, 35 FR 16962, 11/3/70).

The proposed new zone would involve a site (552 acres) located at the Edinburg International Airport complex, 400 East Hargill Road, 11 miles north of the City of Edinburg. The site is about 25 miles north of the Pharr/Reynosa International Bridge, one of the two bridges connecting the U.S. to Reynosa, Mexico. The applicant owns the site.

The application indicates a need for foreign-trade zone services in the Edinburg area. Several firms have indicated an interest in using zone procedures for warehousing/distribution of such items as precision instruments, apparel, electronics and medical supplies. Specific manufacturing approvals are not being sought at this time. Requests would be made to the Board on a case-by-case basis.

In accordance with the Board's regulations, a member of the FTZ Staff has been designated examiner to investigate the application and report to the Board.

As part of the investigation, the Commerce examiner will hold a public hearing on November 1, 2000, at 9 a.m., University of Texas—Pan American Campus, International Trade and Technology Building, corner of Dr. Miguel Nevarez and 107, Room 1.102, Edinburg, Texas 78539.

Public comment on the application is invited from interested parties. Submissions (original and 3 copies) shall be addressed to the Board's Executive Secretary at the address below. The closing period for their receipt is November 28, 2000. Rebuttal comments in response to material submitted during the foregoing period may be submitted during the subsequent 15-day period (to December 13, 2000).

A copy of the application and accompanying exhibits will be available during this time for public inspection at the following locations:

The University of Texas—Pan American Campus, International Trade and Technology Building, Room 1.102, Corner of Dr. Miguel Nevarez and 107, Edinburg, Texas 78539,

Office of the Executive Secretary, Foreign-Trade Zones Board, Room 4008, U.S. Department of Commerce 14th & Pennsylvania Avenue, NW, Washington, DC 20230.

Dated: September 22, 2000.
Dennis Puccinelli,
Executive Secretary.

[FR Doc. 00-25084 Filed 9-28-00; 8:45 am]

BILLING CODE 3510-DS-P